DEPARTMENT OF TRANSPORTATION

Surface Transportation Board

[STB Docket No. AB-579X and STB Docket No. AB-580X]

County of Coahoma, Mississippi—Abandonment Exemption—In Tallahatchie and Coahoma Counties, MS and Gulf & Ohio Railways, Inc., d/b/a Mississippi Delta Railroad—Discontinuance of Service Exemption—in Tallahatchie and Coahoma Counties, MS

On February 26, 2001, the County of Coahoma, Mississippi (County) and the Gulf and Ohio Railways, Inc. d/b/a Mississippi Delta Railroad (MSDR) (jointly, petitioners) jointly filed with the Surface Transportation Board (Board) a petition under 49 U.S.C. 10502 for exemption from the provisions of 49 U.S.C. 10903-05.

The County proposes to abandon its 51.06-mile rail line consisting of: (1) the 18.6-mile Lula Segment between milepost 55.40 near Lula and milepost 74.00 near Lyon, MS; and (2) the 32.46-mile Swan Lake Line between milepost 74.00 near Lyon and milepost 79.00 near Clarksdale, MS, and between milepost 76.54 near Clarksdale and milepost 104.00 at Swan Lake. The County also proposes to discontinue incidental overhead trackage rights over 1.39 miles of an Illinois Central Railroad Company (IC) rail line between milepost 104.00 and the connection with IC's main line at milepost 105.39.

MSDR proposes to discontinue service over the County's above-described 51.06-mile rail line, and also proposes to discontinue trackage and lease operating rights over the above-described 1.39 miles of IC's rail line.

Located in Tallahatchie and Coahoma Counties, MS, the line traverses U.S. Postal Service Zip Codes 38614, 38645, 38617, 38963 and 38921 and includes the station of Clarksdale.

In addition to an exemption from 49 U.S.C. 10903, petitioners also seek exemptions from 49 U.S.C. 10904 (offer of financial assistance procedures) and 49 U.S.C. 10905 (public use conditions). In support, they state that the County intends to retain the track and bridges on the line and seek a new operator to provide service on a non-regulated, contractual basis. Petitioners indicate that MSDR has agreed to continue to operate the line through June 30, 2001; they request that the exemption be made effective the date MSDR proposes to terminate service, which may require a shortened period before the abandonment becomes effective. These requests will be addressed in the final decision.

The line does not contain federally granted rights-of-way. Any documentation in petitioners' possession will be made available promptly to those requesting it.

The interests of railroad employees will be protected by the conditions set forth in Oregon Short Line R. Co.—Abandonment—Goshen, 360 I.C.C. 91 (1979).

By issuance of this notice, the Board is instituting an exemption proceeding pursuant to 49 U.S.C. 10502(b). A final decision will be issued by June 15, 2001.

Any offer of financial assistance (OFA) under 49 CFR 1152.27(b)(2) will be due no later than 10 days after service of a decision granting the petition for exemption. Each offer must be accompanied by a $1,000 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than April 5, 2001. Each trail use request must be accompanied by a $150 filing fee. See 49 CFR 1002.2(f)(27). However, petitioners indicate that they are not willing to negotiate trail use.

All filings in response to this notice must refer to STB Docket No. AB-579X, et al. and must be sent to: (1) Surface Transportation Board, Office of the Secretary, Case Control Unit, 1925 K Street, NW, Washington, DC 20423-0001; (2) William C. Sippel, Fletcher & Sippel LLC, Two Prudential Plaza, Suite 3125, 180 North Stetson Avenue, Chicago, IL 60601-6721; and (3) Troy W. Garris, Weiner Brodsky Sidman Kider PC, 1300 Nineteenth Street, NW, Fifth Floor, Washington, DC 20036-1609. Replies to the exemption petition are due on or before April 5, 2001.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at “WWW.STB.DOT.GOV.”

Decided: March 9, 2000.
By the Board, David M. Konschnik, Director, Office of Proceedings.
Vernon A. Williams,
Secretary.

[FR Doc. 01-6595 Filed 3-15-01; 8:45 am]

BILLING CODE 4915-00-P